DEPARTMENT OF AGRICULTURE

Forest Service

Southwest Oregon Province Interagency Executive Committee (PIEC) Advisory Committee

AGENCY: Forest Service, USDA.

ACTION: Notice of meeting.

SUMMARY: The Southwest Oregon PIEC Advisory Committee will meet on April 10, 2001 at Oregon Department of Transportation, 3500 NW Stewart Parkway, Oregon. The meeting will begin at 9 a.m. and continue until 4:30 p.m. Agenda items to be covered include: (1) Umpqua National Forest Restoration Business Plan; (2) Southwest Oregon Province Advisory Committee Membership; (3) Umpqua Basin Land Exchange Project; (4) Public Comment; and (5) Current issues as perceived by Advisory Committee members.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: March 16, 2001.
Don Ostby,
Designated Federal Official.

[FR Doc. 01-7094 Filed 3-21-01; 8:45 am]

BILLING CODE 3410-11-M